DEPARTMENT OF HEALTH AND HUMAN SERVICES

Centers for Disease Control and Prevention

[Docket Number NIOSH 099-C]

NIOSH Current Intelligence Bulletin—Asbestos Fibers and Other Elongate Mineral Particles: State of the Science and Roadmap for Research, Version 4

AGENCY: National Institute for Occupational Safety and Health (NIOSH) of the Centers for Disease Control and Prevention (CDC), Department of Health and Human Services (HHS).

ACTION: Notice of Draft Document Available for Public Comment.

SUMMARY: The National Institute for Occupational Safety and Health (NIOSH) of the Centers for Disease Control and Prevention (CDC) announces the following revised draft document available for public comment entitled “NIOSH Current Intelligence Bulletin—Asbestos Fibers and Other Elongate Mineral Particles: State of the Science and Roadmap for Research, Version 4.” The document and instructions for submitting comments can be found at http://www.cdc.gov/niosh/review/public/099-C/.

Public Comment Period: February 18, 2010 through April 16, 2010.

Status: Written comments may be mailed to the attention of the NIOSH Docket Officer, NIOSH Docket Office, Robert A. Taft Laboratories, 4676 Columbia Parkway (M/S C34), Cincinnati, Ohio 45226, telephone (513) 533-8611, facsimile (513) 533-8285. Comments may also be submitted by e-mail to nioshdocket@cdc.gov. All material submitted to the Agency should reference the NIOSH Docket number 099-C. All electronic comments should be formatted as Microsoft Word.

All information received, including any personal information provided, will be posted without change and will be available for public examination and copying at the NIOSH Docket Office, Room 111, 4676 Columbia Parkway, Cincinnati, Ohio 45226.

Purpose: To obtain comments from the public on the revised draft document entitled, “NIOSH Current Intelligence Bulletin—Asbestos Fibers and Other Elongate Mineral Particles: State of the Science and Roadmap for Research,” referred to as Roadmap. Asbestos has been a highly visible issue in public health for over three decades. Many advances have been made in the scientific understanding of worker health effects from exposure to asbestos and other elongate mineral particles (EMPs), and it is now well documented that fibers of asbestos minerals, when inhaled, can cause serious diseases in exposed workers. Yet, many questions and areas of scientific uncertainty remain.

Background: As the Federal agency responsible for conducting research and making recommendations for the prevention of worker injury and illness, NIOSH is undertaking a reappraisal of how to ensure appropriate protection of workers from exposure to asbestos fibers and other EMPs. The purpose of the draft Roadmap is to outline major areas of controversy and to recommend a research framework that can serve as a guide for the development of specific research programs within and across disciplines. Ultimately, the intended goal of the research is to provide answers to current scientific questions, reduce scientific uncertainties, and provide a sound scientific foundation for future policy development so that optimal health protection can be assured.

NIOSH has prepared several drafts of the document and invited comments on the occupational health issues identified and the framework for research. The drafts are summarized below.

In February 2007 a draft entitled “Asbestos and Other Mineral Fibers: A Roadmap for Scientific Research” was disseminated for public comment and scientific peer review.

The February 2007 draft, public comments, peer review comments, and the responses to peer reviewers' comments can be found at: http://www.cdc.gov/niosh/docket/NIOSHdocket0099.html.

In June 2008 a draft entitled “Revised Draft NIOSH CURRENT INTELLIGENCE BULLETIN—Asbestos Fibers and Other Elongate Mineral Particles: State of the Science and Roadmap for Research” was disseminated for public comment. The June 2008 draft, public comments, and the responses to public comments can be found at: http://www.cdc.gov/niosh/docket/NIOSHdocket0099A.html.

In January 2009 a draft entitled “Revised Draft NIOSH CURRENT INTELLIGENCE BULLETIN—Asbestos Fibers and Other Elongated Mineral Particles: State of the Science and Roadmap for Research” was submitted to the Institute of Medicine and the National Research Council of the National Academies (NA) for scientific review.

The NA review, titled “A Review of the NIOSH Roadmap for Research on Asbestos Fibers and Other Elongate Mineral Particles,” can be found at: http://www.nap.edu/catalog.php?record_id=12697.

The January 2009 draft and the responses to the NA review can be found at: http://www.cdc.gov/niosh/docket/NIOSHdocket0099B.html.

As a result of comments received during each review, NIOSH revised previous drafts and is now inviting comments on a fourth version of the draft of the document.

NIOSH continues to be interested in available and forthcoming research results that can help answer the questions set forth in the Roadmap, as well as information on existing workplace exposure data, health effects, and control technologies.

Submitted comments on the revised draft Roadmap should indicate the pertinent page(s) and line(s) in the draft document being addressed.

FOR FURTHER INFORMATION CONTACT: Paul Middendorf, Office of the Director, NIOSH, telephone (513) 533-8606, e-mail pmiddendorf@cdc.gov.

Dated: February 3, 2010.
John Howard,
Director, National Institute for Occupational Safety and Health, Centers for Disease Control and Prevention.

[FR Doc. 2010-3055 Filed 2-17-10; 8:45 am]

BILLING CODE 4163-19-P